DEPARTMENT OF LABOR

Mine Safety and Health Administration

30 CFR Part 18

RIN 1219-AA98 (Phase 10)

Alternate Locking Devices for Plug and Receptacle-Type Connectors on Mobile Battery-Powered Machines

AGENCY: Mine Safety and Health Administration (MSHA), Labor.

ACTION: Withdrawal of direct final rule.

SUMMARY: As a result of a significant adverse comment, MSHA is withdrawing the direct final rule (68 FR 2879) on Alternate Locking Devices for Plug and Receptacle-Type Connectors on Mobile Battery-Powered Machines that was published on January 22, 2003. In the document, MSHA stated that in the event it receives a significant adverse comment, MSHA can address the comments received and publish a final rule. Accordingly, all public comments that have been received in this rulemaking are accepted under the proposed rule (68 FR 2941) and will be subsequently addressed in a new final rule. MSHA will not institute a second comment period. Comments filed during this rulemaking can be viewed at MSHA's Internet site at http://www.msha.gov/currentcomments.htm.

DATES: As of March 7, 2003, this direct final rule (68 FR 2879) published on January 22, 2003, is withdrawn.

FOR FURTHER INFORMATION CONTACT: Marvin W. Nichols, Jr., Director; Office of Standards, Regulations, and Variances, MSHA; phone: (202) 693-9440; facsimile: (202) 693-9441; e-mail: nichols-marvin@msha.gov.

Dated: March 3, 2003.
John R. Caylor,
Deputy Assistant Secretary of Labor for Mine Safety and Health.

[FR Doc. 03-5403 Filed 3-6-03; 8:45 am]

BILLING CODE 4510-43-P